DEPARTMENT OF HEALTH AND HUMAN SERVICES

Centers for Disease Control and Prevention

[Docket Number NIOSH-156]

Issuance of Final Guidance Publication

AGENCY: National Institute for Occupational Safety and Health (NIOSH) of the Centers for Disease Control and Prevention (CDC), Department of Health and Human Services (HHS).

ACTION: Notice of issuance of final guidance publication.

SUMMARY: The National Institute for Occupational Safety and Health (NIOSH) of the Centers for Disease Control and Prevention (CDC), announces the availability of the following publication: “Current Intelligence Bulletin 66—Derivation of Immediately Dangerous to Life or Health (IDLH) Values” [NIOSH 2014-100].

ADDRESSES: This document may be obtained at the following link: www.cdc.gov/niosh/docs/2014-100/.

FOR FURTHER INFORMATION CONTACT: G. Scott Dotson, Ph.D. CIH, NIOSH Education and Information Division, Taft Laboratories Building, 4676 Columbia Parkway, Cincinnati, Ohio, 45226. (513) 533-8540.

Dated: November 1, 2013.
John Howard,
Director, National Institute for Occupational Safety and Health, Centers for Disease Control and Prevention.

[FR Doc. 2013-26678 Filed 11-6-13; 8:45 am]

BILLING CODE 4163-19-P